DEPARTMENT OF ENERGY

Federal Energy Regulatory Commission

Combined Notice of Filings #1

Take notice that the Commission received the following exempt wholesale generator filings:

Docket Numbers: EG20-169-000.

Applicants: Helios 5 MT, LLC.

Description: Notice of Self-Certification of Exempt Wholesale Generator Status of Helios 5 MT, LLC.

Filed Date: 5/22/20.

Accession Number: 20200522-5108.

Comments Due: 5 p.m. ET 6/12/20.

Take notice that the Commission received the following electric rate filings:

Docket Numbers: ER15-1436-001.

Applicants: Midcontinent Independent System Operator, Inc.

Description: Midcontinent Independent System Operator, Inc. submits tariff filing per 35.19a(b): Refund Report Entergy Operating Companies to be effective N/A.

Filed Date: 5/22/20.

Accession Number: 20200522-5143.

Comments Due: 5 p.m. ET 6/12/20.

Docket Numbers: ER17-1742-002; ER19-2671-001; ER19-2672-001; ER19-2595-001; ER19-2670-001; ER17-311-002; ER13-2490-006.

Applicants: Hattiesburg Farm, LLC, SR Arlington II, LLC, SR Arlington II MT, LLC, SR Hazlehurst III, LLC, SR Meridian III, LLC, SR South Loving LLC, Simon Solar Farm LLC.

Description: Notice of Non-Material Change in Status of Hattiesburg Farm, LLC, et. al.

Filed Date: 5/21/20.

Accession Number: 20200521-5211.

Comments Due: 5 p.m. ET 6/11/20.

Docket Numbers: ER20-1059-001.

Applicants: Southwest Power Pool, Inc.

Description: Tariff Amendment: Deficiency Response—Western Energy Imbalance Service Tariff to be effective 2/1/2021.

Filed Date: 5/22/20.

Accession Number: 20200522-5187.

Comments Due: 5 p.m. ET 6/12/20.

Docket Numbers: ER20-1060-001.

Applicants: Southwest Power Pool, Inc.

Description: Tariff Amendment: Deficiency Response—Western Energy Imbalance Service Rate Schedule Tariff to be effective 2/1/2021.

Filed Date: 5/22/20.

Accession Number: 20200522-5191.

Comments Due: 5 p.m. ET 6/12/20.

Docket Numbers: ER20-1876-001.

Applicants: Evergy Kansas Central, Inc.

Description: Tariff Amendment: Notice of Succession of Rate Schedule, Supplemental to be effective 7/20/2020.

Filed Date: 5/21/20.

Accession Number: 20200521-5146.

Comments Due: 5 p.m. ET 6/11/20.

Docket Numbers: ER20-1877-000.

Applicants: PJM Interconnection, L.L.C.

Description: § 205(d) Rate Filing: First Rev. ISA SA No. 3601 & Original ICSA SA No. 5630; Queue No. V3-028/AB2-170 to be effective 4/22/2020.

Filed Date: 5/21/20.

Accession Number: 20200521-5135.

Comments Due: 5 p.m. ET 6/11/20.

Docket Numbers: ER20-1878-000.

Applicants: Evergy Kansas South, Inc.

Description: § 205(d) Rate Filing: Notice of Succession Rate Schedules & Service Agreements to be effective 7/20/2020.

Filed Date: 5/21/20.

Accession Number: 20200521-5139.

Comments Due: 5 p.m. ET 6/11/20.

Docket Numbers: ER20-1879-000.

Applicants: Oliver Wind I, LLC.

Description: Baseline eTariff Filing: Oliver Wind I, LLC Application for MBR Authorization to be effective 7/21/2020.

Filed Date: 5/21/20.

Accession Number: 20200521-5162.

Comments Due: 5 p.m. ET 6/11/20.

Docket Numbers: ER20-1880-000.

Applicants: Evergy Metro, Inc.

Description: § 205(d) Rate Filing: Notice of Succession Rate Schedules & Service Agreements to be effective 7/20/2020.

Filed Date: 5/21/20.

Accession Number: 20200521-5169.

Comments Due: 5 p.m. ET 6/11/20.

Docket Numbers: ER20-1881-000.

Applicants: Tampa Electric Company.

Description: § 205(d) Rate Filing: Emergency Interchange Service Schedule A&B-2020 (Bundled) to be effective 5/1/2020.

Filed Date: 5/22/20.

Accession Number: 20200522-5000.

Comments Due: 5 p.m. ET 6/12/20.

Docket Numbers: ER20-1882-000.

Applicants: Evergy Missouri West, Inc.

Description: § 205(d) Rate Filing: Notice of Succession Rate Schedules & Service Agreements to be effective 7/21/2020.

Filed Date: 5/22/20.

Accession Number: 20200522-5001.

Comments Due: 5 p.m. ET 6/12/20.

Docket Numbers: ER20-1883-000.

Applicants: PJM Interconnection, L.L.C.

Description: § 205(d) Rate Filing: Revisions to Sch. 12-Appx A: April 2020 RTEP, 30-Day Comment Period Requested to be effective 8/20/2020.

Filed Date: 5/22/20.

Accession Number: 20200522-5058.

Comments Due: 5 p.m. ET 6/12/20.

Docket Numbers: ER20-1884-000.

Applicants: Invenergy Wilkinson Solar Holdings LLC.

Description: Tariff Cancellation: Notice of Cancellation of Market-Based Rate Tariff to be effective 7/22/2020.

Filed Date: 5/22/20.

Accession Number: 20200522-5128.

Comments Due: 5 p.m. ET 6/12/20.

Docket Numbers: ER20-1885-000.

Applicants: Polaris Wind Energy LLC.

Description: Tariff Cancellation: Notice of Cancellation of Market-Based Rate Tariff to be effective 7/22/2020.

Filed Date: 5/22/20.

Accession Number: 20200522-5147.

Comments Due: 5 p.m. ET 6/12/20.

Docket Numbers: ER20-1886-000.

Applicants: Appalachian Power Company, Indiana Michigan Power Company, Kentucky Power Company, Kingsport Power Company, Ohio Power Company, Wheeling Power Company, American Electric Power Service Corporation, PJM Interconnection, L.L.C.

Description: Compliance filing: AEP East Operating Companies submits revisions to OATT Att. H-14 re: Order 864 to be effective 1/27/2020.

Filed Date: 5/22/20.

Accession Number: 20200522-5183.

Comments Due: 5 p.m. ET 6/12/20.

Docket Numbers: ER20-1887-000.

Applicants: GenOn Chalk Point, LLC.

Description: § 205(d) Rate Filing: Notice of Succession to be effective 4/22/2020.

Filed Date: 5/22/20.

Accession Number: 20200522-5186.

Comments Due: 5 p.m. ET 6/12/20.

Docket Numbers: ER20-1888-000.

Applicants: AEP Appalachian Transmission Company, Inc, AEP Indiana Michigan Transmission Company, Inc., AEP Kentucky Transmission Company, Inc., AEP Ohio Transmission Company, Inc., AEP West Virginia Transmission Company, Inc., American Electric Power Service Corporation, PJM Interconnection, L.L.C.

Description: Compliance filing: AEP East Transmission Companies submit revisions to OATT Att. H-20 re: Order 864 to be effective 1/27/2020.

Filed Date: 5/22/20.

Accession Number: 20200522-5229.

Comments Due: 5 p.m. ET 6/12/20.

Docket Numbers: ER20-1889-000.

Applicants: Public Service Electric and Gas Company, PJM Interconnection, L.L.C.

Description: § 205(d) Rate Filing: PSEG submits Revisions to PJM Tariff, Att. H-10 re: Order 864 to be effective 1/27/2020.

Filed Date: 5/22/20.

Accession Number: 20200522-5244.

Comments Due: 5 p.m. ET 6/12/20.

Docket Numbers: ER20-1890-000.

Applicants: California Independent System Operator Corporation.

Description: § 205(d) Rate Filing: 2020-05-22 Intertie Deviation Settlement—Initial Filing to be effective 10/1/2020.

Filed Date: 5/22/20.

Accession Number: 20200522-5246.

Comments Due: 5 p.m. ET 6/12/20.

Docket Numbers: ER20-1891-000.

Applicants: Oliver Wind II, LLC.

Description: § 205(d) Rate Filing: Oliver Wind II, LLC Notice of Succession to be effective 5/23/2020.

Filed Date: 5/22/20.

Accession Number: 20200522-5247.

Comments Due: 5 p.m. ET 6/12/20.

Docket Numbers: ER20-1892-000.

Applicants: Midcontinent Independent System Operator, Inc.

Description: Limited waiver request of Midcontinent Independent System Operator, Inc.

Filed Date: 5/22/20.

Accession Number: 20200522-5290.

Comments Due: 5 p.m. ET 6/12/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2020.
Nathaniel J. Davis, Sr.,
Deputy Secretary.

[FR Doc. 2020-11556 Filed 5-28-20; 8:45 am]

BILLING CODE 6717-01-P